SURFACE TRANSPORTATION BOARD

[Docket No. FD 36510]

Bogalusa Bayou Railroad, L.L.C. d/b/a Geaux Geaux Railroad—Acquisition and Operation Exemption—Geaux Geaux Railroad, LLC

Bogalusa Bayou Railroad, L.L.C. (BBR), a Class III railroad, filed a verified notice of exemption under 49 CFR 1150.41 to acquire title from Geaux Geaux Railroad, LLC, and to conduct common carrier operations over, two contiguous railroad line segments, totaling approximately 23.26 miles, extending between: (1) Milepost 0.0 at Slaughter, La., and a point lying westerly thereof at what would be milepost 11.0 ¹ at Zee, La. (the Zee Segment); and (2) milepost 345.84 (immediately north of Slaughter and the point of connection with the Zee Segment) and a point lying southerly thereof at milepost 358.1 at Maryland, La. (collectively, the Line).

¹ The verified notice indicates that currently there are no physical mileposts in place on the Zee Segment beyond milepost 9.69.

The verified notice states that BBR has operated on the Line since 2015, and that it obtained Board authority to do so, less what is currently unregulated ancillary track from milepost 9.69 to milepost 11, in Bogalusa Bayou Railroad—Operation Exemption—Geaux Geaux Railroad, FD 35904 (STB served Feb. 13, 2015).

BBR certifies that the proposed acquisition of the Line does not involve an interchange commitment. BBR further certifies that its projected annual revenues as a result of this transaction will not result in its becoming a Class II or Class I rail carrier and will not exceed $5 million.

The transaction may be consummated on or after May 19, 2021 (30 days after the verified notice of exemption was filed).

If the verified notice contains false or misleading information, the exemption is void ab initio. Petitions to revoke the exemption under 49 U.S.C. 10502(d) may be filed at any time. The filing of a petition to revoke will not automatically stay the effectiveness of the exemption. Petitions to stay must be filed no later than May 12, 2021 (at least seven days before the exemption becomes effective).

All pleadings, referring to Docket No. FD 36510, should be filed with the Surface Transportation Board via e-filing on the Board's website. In addition, a copy of each pleading must be served on BBR's representative, Bradon J. Smith, Fletcher & Sippel LLC, 29 North Wacker Drive, Suite 800, Chicago, IL 60606.

According to BBR, this action is categorically excluded from environmental review under 49 CFR 1105.6(c) and from historic reporting requirements under 49 CFR 1105.8(b).

Board decisions and notices are available at www.stb.gov.

Decided: April 29, 2021.
By the Board, Scott M. Zimmerman, Acting Director, Office of Proceedings.
Aretha Laws-Byrum,
Clearance Clerk.

[FR Doc. 2021-09462 Filed 5-4-21; 8:45 am]

BILLING CODE 4915-01-P